LEGAL SERVICES CORPORATION

Sunshine Act Meeting

TIME AND DATE: The Board of Directors of the Legal Services Corporation will meet on May 29, 2001 via conference call. The meeting will begin at 11:30 a.m. and continue until conclusion of the Board's agenda.

LOCATION: 750 First Street, NE., 11th Floor, Washington, DC 20002, in Room 11026.

STATUS OF MEETING: Open.

MATTERS TO BE CONSIDERED: 1. Approval of the agenda.

2. Consider and act on Board of Directors' Semiannual Report to Congress for the period of October 1, 2000 through March 31, 2001.

3. Consider and act on contractual arrangements for John McKay's separation as President of the Legal Services Corporation.

4. Consider and act on the appointment of an individual to assume the Office of President of the Legal Services Corporation on an interim basis upon John McKay vacating the position.

5. Status report on the progress of Performance Measures contract.

6. Consider and act on other business.

7. Public comment.

CONTACT PERSON FOR INFORMATION: Victor M. Fortuno, Vice President for Legal Affairs, General Counsel & Corporate Secretary, at (202) 336-8800.

SPECIAL NEEDS: Upon request, meeting notices will be made available in alternate formats to accommodate visual and hearing impairments. Individuals who have a disability and need an accommodation to attend the meeting may notify Elizabeth Cushing, at (202) 336-8800.

Dated: May 22, 2001.
Victor M. Fortuno,
Vice President for Legal Affairs, General Counsel & Corporate Secretary.

[FR Doc. 01-13331 Filed 5-22-01; 4:55 pm]

BILLING CODE 7050-01-P